DEPARTMENT OF COMMERCE

Office of the Secretary

[Docket No.: 021023249-2249-01]

Privacy Act of 1974; System of Records

AGENCY: Office of Administration, Office of the Secretary, Department of Commerce.

ACTION: Notice and request for comments.

SUMMARY: In accordance with the Privacy Act (5 U.S.C. 552a(e) (4) and (11)), the Department of Commerce is issuing notice of our intent to amend the system of records entitled Commerce/Census—6, “Population Census Personal Service Records for 1900 and All Subsequent Decennial Censuses.” We invite public comment on the proposed change in this publication.

DATES: The amendments will become effective as proposed without further notice on December 2, 2002. Comment date: To be considered, written comments must be submitted on or before December 2, 2002.

ADDRESSES: Comments may be mailed to Gerald W. Gates, Chief, Policy Office, U.S. Census Bureau, Washington, DC 20233.

SUPPLEMENTARY INFORMATION: The amendment updates administrative information concerning the locations of the system files, the categories of individuals covered by the system, the categories of records in the system, the purpose of the system of records, retrievability, safeguards, and the disposal of the records in the system in addition to other minor administrative updates. Accordingly, the Population Census Records Personal Service Records for 1900 and All Subsequent Decennial Censuses system notice originally published at 45 FR 82105, December 12, 1980, is amended by the addition of the following information updates.

Commerce/Census—6

Title:

Delete “Personal Service” and change “1900” to “1910”.

System Location:

Strike “Personal Census Services Branch, Pittsburg, Kansas 66762” and add “National Processing Center, 1201 East 10th Street, Jeffersonville, Indiana 47132.”

Categories of individuals covered by the system:

Strike “(1900-1970)” and add “(1910 and all subsequent decennial censuses)”.

Categories of records in the system:

After “head of household” strike “date of birth” and insert “age (at time of census) or month/year of birth (depending on census year),”. Before “education” insert “limited”.

Authority for maintenance of the system:*

Purpose(s):

Add “The 1910-1990 decennial census records are searched and official census transcripts of the results are provided to the named persons(s), their heirs, or legal representatives, upon receipt of a signed Application for Search of Census Records (Form BC-600). Census transcripts provide proof of age for Social Security or other retirement benefits. They can also be used in making passport applications, to prove relationship in settling estates, in limited genealogy research or to satisfy other situations where a birth certificate or other legal documentation is needed but not available.”

Routine uses of records maintained in the system:

Change “15 CFR part 60” to “15 CFR part 50”.

Policies and practices for storing, retrieving, accessing, retaining, and disposing of records in the system:

Storage:*

Retrievability:

Delete the entire sentence and add: “Some census records are indexed by the SOUNDEX system—a numerical coding of the surname. The majority of census records are arranged on a geographic basis where the address must be known to determine which roll of microfilm contains the name(s) for which a search is requested.”

Safeguards:

After the last sentence add: “Details from confidential records can only be released to the named persons, their heirs, or legal representatives upon submission of a notarized transcript application. Individual records are confidential for 72 years (Title 44, U.S.C. 2108(b)).”

Retention and disposal:

Add: “Records are stored at the Census Bureau's National Processing Center in Jeffersonville, Indiana, and also are provided to the National Archives and Records Administration for permanent retention. Records stored at the National Archives and Records Administration are not made public for 72 years.”

Systems manager(s) and address:

Strike “Administration” and insert “Economic Programs”.

Systems exempted from certain provisions of the Act:

Insert “system of” between “this” and “record” in the first sentence and change “record” to “records”.

* Indicates that there are no changes to that paragraph of the notice.

Dated: October 29, 2002.
Brenda Dolan,
Department of Commerce, Freedom of Information/Privacy Act Officer.

[FR Doc. 02-27821 Filed 10-31-02; 8:45 am]

BILLING CODE 3510-07-P